OFFICE OF THE UNITED STATES TRADE REPRESENTATIVE

Request for Comments Concerning Compliance With Telecommunications Trade Agreements

AGENCY: Office of the United States Trade Representative.

ACTION: Extension of time to file public comment concerning compliance with Telecommunications Trade Agreements; additional information on filing of comments.

SUMMARY: The Office of the United States Trade Representative published a document in the Federal Register on December 27, 2001, concerning request for comments on compliance with telecommunications trade agreements. We are extending the date by which persons should file comments to February 1, 2002. In addition, we are providing additional guidance for the submission of comments which should be carefully reviewed.

FOR FURTHER INFORMATION CONTACT: Kenneth Schagrin, 202-395-5663.

In the Federal Register of December 27, 2001, in FR Doc. 01-31795 on page 66964, make the following changes:

1. In the first column, under DATES:, the new date should read February 1, 2002.

2. In the second column under Public Comments: Requirements for Submission, remove the second, third and fourth paragraphs and add new paragraphs to read as follows:

In order to ensure the most timely and expeditious receipt and consideration of comments, USTR has arranged to accept submissions in electronic format (e-mail). Comments should be submitted electronically to FR0013@ustr.gov. An automatic reply confirming receipt of e-mail submission will be sent. E-mail submissions in Microsoft Word or Corel WordPerfect are preferred. If a word processing application other than those two is used, please include in your submission the specific application used. For any documents containing business confidential information submitted electronically, the file name of the business confidential version should begin with the characters “BC”, and the file name of the public version should begin with the character “P”. The “BC” and “P” should be followed by the name of the person or entity submitting the comments. Interested persons who make submissions electronically should not provide separate cover letters; rather, information that might appear in a cover letter should be included in the submission itself. Similarly, to the extent possible, any attachments to the submission should be included in the same file as the submission itself, and not as separate files.

We strongly urge people to avail themselves of the electronic filing, if at all possible. If an e-mail submission is impossible, 15 copies may be submitted, in English, to Gloria Blue, Office of the United States Trade Representative, by noon on February 1, 2002. Submissions not filed electronically must be delivered by private commercial courier, and arrangements must be made with Ms. Blue prior to delivery for their receipt. Ms. Blue should be contacted at (202) 395-3475.

All comments will be placed in the USTR Reading Room for inspection shortly after the filing deadline, except business confidential information exempt from public inspection in accordance with 15 CFR 2003.6. Confidential information submitted in accordance with 15 CFR 2003.6, must be clearly marked “BUSINESS CONFIDENTIAL” in a contrasting color ink at the top of each page on each of 15 copies, and must be accompanied by 15 copies of a non-confidential summary of the confidential information. The non-confidential summary will be placed in the USTR Public Reading Room. USTR will also post all non-confidential comments filed on the USTR web site. Therefore, those persons not availing themselves of electronic filing, must submit their 15 copies with a diskette. USTR will post the non-confidential version of the filing, therefore the non-confidential version must be clearly marked on the diskette.

An appointment to review the comments may be made by calling the USTR Reading Room at (202) 395-6186. The USTR Reading Room is open to the public from 9:30 a.m. to 12 noon, and from 1 p.m. to 4 p.m., Monday through Friday, and is located in Room 3 of 1724 F Street, NW.

Dated: January 18, 2002.
Carmen Suro-Bredie,
Chairman, Trade Policy Staff Committee.

[FR Doc. 02-1841 Filed 1-28-02; 8:45 am]

BILLING CODE 3190-01-P